COMMODITY FUTURES TRADING COMMISSION

17 CFR Part 145

Commission Records and Information

AGENCY: Commodity Futures Trading Commission.

ACTION: Final rules.

SUMMARY: The Commodity Futures Trading Commission (the “Commission” or “CFTC”) has adopted amendments to Part 145 of its rules, which governs Commission records and information. These amendments are necessary to conform Part 145 to recent amendments to the Commission's Part 3 rules and recent changes in the organizational structure of Commission staff.

EFFECTIVE DATE: October 15, 2002.

FOR FURTHER INFORMATION CONTACT: Lawrence B. Patent, Deputy Director, or Michael A. Piracci, Attorney-Advisor, Compliance and Registration Section, Division of Clearing and Intermediary Oversight, Commodity Futures Trading Commission, Three Lafayette Centre, 1155 21st Street, NW., Washington, DC 20581. Telephone: (202) 418-5430.

SUPPLEMENTARY INFORMATION:

I. Background

On May 30, 2002, the Commission adopted amendments to its Part 3 rules governing the registration of intermediaries in the futures industry. These amendments were adopted to facilitate the change from a paper-based registration system to an online registration system.¹ Although applications are now filed electronically through NFA's online registration system, the Commission's rules and NFA's rules both retain the same titles for the forms that applicants and registrants are required to file as those used under the previous paper-based system.² The online forms do not, however, retain the line item numbering from the paper forms. The online forms, instead, contain headings for the sections that include fillable text boxes and check-off boxes for submitting the required information.

¹ The National Futures Association (“NFA”) began processing applications for almost all registration categories through the online registration system on June 3, 2002. Agricultural trade option merchants as well as applicants for registration as futures commission merchants and introducing brokers pursuant to Section 4f(a)(2) of the Commodity Exchange Act (notice-registration of securities broker-dealers whose only futures-related activity involves security futures products) still file paper applications.

² These forms include, among others: Form 7-R (application for registration as a futures commission merchant, introducing broker, commodity pool operator, and commodity trading advisor); Form 8-R (application for registration as an associated person, floor broker, and floor trader, and for being listed as a principal of a registrant); and Form 7-W (withdrawal from firm registration).

Commission Rule 145.6(b)(2) provides that fingerprint cards and supplementary attachments filed in response to certain items on the registration forms generally will not be available for public inspection. The item numbers of the registration forms referenced in the rule include requests for information regarding, among other things: (1) Disciplinary history; (2) social security number; (3) any pending or anticipated actions; and (4) the reasons for termination of a registrant or principal.

As noted above, the online forms no longer number the line items required to be completed, but do contain section headings. Accordingly, Rule 145.6(b)(2) has been amended to include the relevant sections of the online forms for which the supplementary filings are not available for public inspection. No change has been made, however, in the type of information that generally will not be made available. For example, the rule previously cited to items 6-9 and 14-21 on Form 8-R, which asked for personal identifying information, such as the individual's social security number and date of birth, and a disciplinary history, respectively. The rule has been amended to provide that, additionally, supplementary attachments filed in response to the “Personal Information” and the “Disciplinary Information” sections of Form 8-R will not generally be available for public inspection.

The Commission has also adopted certain technical amendments to Part 145. For example, the Commission has amended Appendix A to Part 145 so as to reference the appropriate divisions of the Commission, the names of which have changed as a result of the reorganization of the Commission's staff, effective July 1, 2002.

II. Related Matters

Administrative Procedure Act

The Commission has determined that the amendments discussed herein relate solely to agency organization, procedure, and practice. Accordingly, the provisions of the Administrative Procedure Act that generally require notice of proposed rulemaking and that provide other opportunities for public participation are not applicable.³ The Commission further finds that, because the amendments have no adverse effect upon a member of the public, there is good cause to make them effective immediately upon publication in the Federal Register.⁴

³ 5 U.S.C. 553(b)(3)(A) (1994).

⁴ See 5 U.S.C. 553(d)(3) (1994).

Lists of Subjects in 17 CFR Part 145

Confidential business information, Freedom of information.

For the reasons discussed in the foregoing, the Commission hereby amends Chapter I of Title 17 of the Code of Federal Regulations as follows:

PART 145—COMMISSION RECORDS AND INFORMATION

1. The authority citation for Part 145 continues to read as follows:

Authority: Pub. L. 99-570, 100 Stat. 3207; Pub. L. 89-554, 80 Stat. 1561-1564 (5 U.S.C. 552); Sec. 101(a), Pub. L. 93-463, 88 Stat. 1389 (5 U.S.C. 4a(j)); unless otherwise noted.

2. Section 145.6 is amended as follows:

a. By revising paragraph (b)(2) to read as follows:

§ 145.6 Commission offices to contact for assistance; registration records available.

* * * * *

(b) * * *

(2) The fingerprint card and any supplementary attachments filed in response to:

(i) Items 6-9, 14-21, the “Personal Information,” or the “Disciplinary Information” sections on Form 8-R;

(ii) Item 3 on Form 8-S;

(iii) Items 3-5, 9-11, the “Withdrawal Reasons,” the “Disciplinary Information,” or the “Matter Information” sections on Form 8-T;

(iv) Items 9-10 on Form 7-R;

(v) Item 7 and the “Additional Customer Information” section on Form 7-W; and

(vi) Item 7 on Form 8-W generally will not be available for public inspection and copying unless such disclosure is required under the Freedom of Information Act. Changes or corrections to those items reported on Form 3-R will be treated similarly. When such fingerprint cards or supplementary attachments are on file, the FOI, Privacy and Sunshine Acts compliance staff will decide any request for access in accordance with the procedures set forth in §§ 145.7 and 145.9.

3. Part 145 Appendix A paragraph (a) is amended by removing “Office of Public Affairs” and adding in its place “Office of External Affairs”.

4. Part 145 Appendix D paragraph (c) is amended by removing “Office of Public Affairs” and adding in its place “Office of External Affairs”.

Issued in Washington, DC, on October 9, 2002, by the Commission.
Jean A. Webb,
Secretary of the Commission.

[FR Doc. 02-26124 Filed 10-11-02; 8:45 am]

BILLING CODE 6351-01-P